DEPARTMENT OF THE INTERIOR

Bureau of Land Management

[LLWYD01000.L13110000.EJ0000.LXSI016K0000]

Call for Nominations for the Pinedale Anticline Working Group, Wyoming

AGENCY: Bureau of Land Management, Interior.

ACTION: Notice.

SUMMARY: Nominations are being solicited for two positions on the Pinedale Anticline Working Group (PAWG).

DATES: All nominations must be received no later than November 21, 2011.

ADDRESSES: Nominations should be mailed or delivered to Shelley Gregory, Bureau of Land Management (BLM), Pinedale Field Office, 1625 West Pine Street, P.O. Box 768, Pinedale, WY 82941, or e-mailed to: ssgregory@blm.gov.

FOR FURTHER INFORMATION CONTACT: Shelley Gregory, BLM, Pinedale Field Office, 1625 West Pine Street, P.O. Box 768, Pinedale, WY 82941; 307-315-0612, or e-mail: ssgregory@blm.gov.

SUPPLEMENTARY INFORMATION: The PAWG was established by the Environmental Impact Statement (EIS) Record of Decision (ROD) for the Pinedale Anticline Project Area (PAPA) on July 27, 2000, and carried forward with the release of the ROD for the PAPA Supplemental EIS on September 12, 2008. The Secretary of the Interior renewed the PAWG charter on August 3, 2010.

The PAWG is a Federal Advisory Committee Act (FACA) group which develops recommendations and provides advice to the BLM on mitigation, monitoring, and adaptive management in the PAPA. The PAWG is governed by rules found at 43 CFR 1784 et seq. and FACA provisions at 5 U.S.C. App. 2, as amended.

Additional information about the PAWG, its membership and activities, and the nomination process can be found at: http://www.blm.gov/wy/st/en/field_offices/pinedale/pawg.html.

Nominations for the PAWG seats are being solicited for persons representing the following categories:

1. Archaeological and historical organizations or expertise; or

2. The affected public-at-large.

PAWG duties and responsibilities are as follows:

1. Develop recommendations for the BLM regarding matters relating to monitoring and mitigation of oil and gas development as described in the Supplemental EIS ROD for the PAPA. At the direction of the Designated Federal Officer, the PAWG may review and analyze information, recommend issues for evaluation, and provide advice on the issues presented.

2. Review the implementation of construction and rehabilitation operations through an annual field inspection to provide advice to ensure that the mitigation measures are reasonable and effective.

3. Advise the BLM on working with stakeholders to develop or enhance resource management programs and objectives.

4. Make recommendations on future PAWG resource management priorities.

Members are expected to attend all scheduled PAWG meetings. Members are appointed for 2-year terms and may be reappointed to additional terms at the discretion of the Secretary of the Interior.

Nomination packages should contain the following information:

1. Representative category;

2. Full legal name;

3. Business address and phone number;

4. Home address and phone number;

5. Mailing address, if different from item 4;

6. E-mail address;

7. Occupation title;

8. Qualifications (education, including colleges, degrees, major fields of study and/or training);

9. Career highlights (significant related experience, civic and professional activities, elected offices, prior advisory committee experience, or career achievements related to the interest to be represented);

10. Experience in collaborative management techniques, such as long-term planning, management across jurisdictional boundaries, data sharing, information exchange, and partnerships;

11. Experience in data analysis and interpretation, problem identification, and evaluation of proposals;

12. A description of the applicant's knowledge of issues involving oil and gas development;

13. List any leases, licenses, permits, contracts, or claims held by the nominee or his or her employer that involve lands or resources administered by the BLM;

14. Verification that the nominee is not a federally registered lobbyist. The Obama Administration prohibits individuals who are currently federally registered lobbyists to serve on all FACA and non-FACA boards, committees or councils;

15. A minimum of two letters of reference from group or organization to be represented;

16. Nominator's name, address, and telephone numbers (if not self-nominated); and

17. Date of nomination.

A group nominating more than one person should indicate its preferred order of appointment selection.

Donald A. Simpson,
State Director.

[FR Doc. 2011-27270 Filed 10-20-11; 8:45 am]

BILLING CODE 4310-22-P